DEPARTMENT OF COMMERCE

Economic Development Administration

Notice of Petitions by Firms for Determination of Eligibility To Apply for Trade Adjustment Assistance

AGENCY: Economic Development Administration, Department of Commerce.

ACTION: Notice and Opportunity for Public Comment.

Pursuant to section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance for the Period January 23, 2006-February 13, 2006
Firm | Address | Date petition accepted | Product
RIM, Inc | 901 W. I-20, Weatherford, TX 97087 | 1/23/06 | Plastic parts, including seals.
Unicircuit, Inc | 8192 Southpark Lane, Littleton, CO 80120 | 1/24/06 | Printed circuit boards.
CPC of Vermont Inc | 227 Pond Lane, Middlebury, VT 05753 | 1/30/05 | Steel molds and custom plastic injection molded parts.
Bassett Furniture Industries, Inc | 3525 Fairystone Park Highway, Bassett, VA 24055 | 1/30/05 | Furniture.
American Reinforced Plastics, Inc | 8209 East Pacific Highway, Tacoma, WA 98422 | 1/30/06 | Plastic baths, shower baths and soaking tubs.
Cell-Parts Manufacturing Company | 125 Prairie Lake Road, East Dundee, IL 60118 | 1/30/06 | Molded and machined plastic parts.
DeLaine James, Inc | 2013 Centimeter Circle, Austin, TX 78758 | 2/8/06 | Blinds from wood, plastic and aluminum.
Quantegy Recording Solutions LLC | 2230 Marvyn Parkway, Opelika, AL 36804 | 2/8/06 | Audio and video recording tape.
Saunders Brothers, Inc | 170 Forest Street, Westbrook, ME 04098 | 2/8/06 | Wood products.
Southern Fields Aloe, Inc | Rt. 2 85-D, Mercedes, TX 78570 | 2/8/06 | Aloe Vera.
S & H Products, Inc | 5891 Nolan Street, Unit 1, Arvada, CO 80003 | 2/8/06 | Safety shut off valves for firefighting equipment.
Fiber Science, Inc | 2855 Kirby Circle, N.E. Suite 4, Palm Bay, FL 32905 | 2/8/06 | Synthetic (polymeric) continuous filament and staple fibers.
Extrudex Limited Partnership | 310 Figgie Road, Painesville, OH 44077 | 2/8/06 | Thermoplastic extrusions.
Air Cleaners, Inc | 704 S. 12th Street, Broken Arrow, OK 74012 | 2/13/06 | Air filters.

Any party having a substantial interest in these proceedings may request a public hearing on the matter. A written request for a hearing must be submitted to the Office of Chief Counsel, Room 7005, Economic Development Administration, U.S. Department of Commerce, Washington, DC 20230, no later than ten (10) calendar days following publication of this notice. Please follow the procedures set forth in section 315.9 of EDA's interim final rule (70 FR 47002) for procedures for requesting a public hearing. The Catalog of Federal Domestic Assistance official program number and title of the program under which these petitions are submitted is 11.313, Trade Adjustment Assistance.

Dated: February 13, 2006.
Barry Bird,
Chief Counsel.

[FR Doc. E6-2416 Filed 2-17-06; 8:45 am]

BILLING CODE 3510-24-P